DEPARTMENT OF THE INTERIOR

Bureau of Land Management

43 CFR Part 3140

[WO-310-1310-PP-241A]

RIN 1004-AD76

Leasing in Special Tar Sand Areas

AGENCY: Bureau of Land Management, Interior.

ACTION: Final rule; adoption of interim final rule as final with amendments.

SUMMARY: The Bureau of Land Management (BLM or “we”) is issuing final regulations for the leasing of hydrocarbons, except coal, gilsonite and oil shale, in special tar sand areas. In this rule, BLM implements provisions of the Energy Policy Act of 2005. This final rule also makes technical corrections to the interim final regulations BLM issued in October 2005.

DATES: The final rule is effective May 18, 2006.

ADDRESSES: You may mail suggestions or inquiries to Bureau of Land Management, Solid Minerals Group, Room 501 LS, 1849 C Street, NW., Washington, DC 20240-0001.

FOR FURTHER INFORMATION CONTACT: Ted Murphy, Solid Minerals Division Chief, at (202) 452-0351 for issues related to BLM's solid minerals programs, or Ted Hudson, Regulatory Affairs Acting Division Chief, (202) 452-5042 for regulatory process issues. Persons who use a telecommunications device for the deaf may contact these individuals through the Federal Information Relay Service (FIRS) at 1-800-877-8339, 24 hours a day, 7 days a week.

SUPPLEMENTARY INFORMATION:

I. Background

II. How Does the Final Rule Differ From the Interim Final Rule?

III. Responses to Comments on the October 2005 Interim Final Rule

I. Background

Section 350 of the Energy Policy Act of 2005 (Pub. L. 109-58) (the Act) further amended the Mineral Leasing Act to authorize the Secretary to issue separate oil and gas leases and tar sand leases, in addition to combined hydrocarbon leases, in special tar sand areas. Section 350 of the Act also specified several oil and gas leasing practices that will apply to tar sand leases and set the minimum acceptable bid for tar sand leases at $2.00 per acre.

Section 369(j)(1)(D) of the Act also amended the Mineral Leasing Act to increase the maximum acreage of combined hydrocarbon leases and tar sand leases in a special tar sand area to 5,760 acres.

Section 350 of the Act required BLM to issue final regulations implementing these provisions within 45 days. Because of the prescribed time limit and the fact that the Act was specific as to the provisions BLM must adopt, we issued an interim final rule on October 7, 2005 (70 FR 58610). In the interim final rule, we explained that we would accept comments and might make changes in a later-issued final rule.

The BLM finds good cause under 5 U.S.C. 553(d) to make this rule effective immediately upon publication because delay in the effective date would be unnecessary and contrary to the public interest. The changes made in this final rule are technical corrections and do not require any person to adjust his or her conduct to comply with their terms. The interim rule was adopted as final effective on October 7, 2005, and the minor changes adopted today are intended to eliminate confusion resulting from minor errors in the October 2005 interim final rule.

II. How Does the Final Rule Differ From the Interim Final Rule?

This final rule makes three changes to the interim final rule.

1. The original paragraph (d) in section 3141.0-5 should have been removed prior to redesignating paragraph (b) as (d) in the interim final rule. This was not done, which resulted in two paragraphs (d) in the section. This oversight is corrected in the final rule.

2. A grammatical error in redesignated paragraph 3141.0-5(d) is corrected.

3. Section 3141.6-2(b) in the interim final rule makes a reference to 43 CFR 1821.2-1(d), which no longer exists. The reference is corrected to 43 CFR 1821.10 in the final rule.

III. Responses to Comments on the October 2005 Interim Final Rule

The BLM received a total of three comments on the interim final rule.

One of the comments that BLM received expressed general opposition to the oil and gas leasing program.

Two of the comments received pointed out the editing error that caused the duplication of paragraph (d) in section 3141.0-5, which is corrected in this final rule.

Author

The principal author of this rule is Ron Teseneer, Solid Minerals Group (WO320). Jim Kohler, Utah State Office, BLM, Dennis Daugherty, Office of the Solicitor, Department of the Interior, and Frank Bruno, Regulatory Affairs provided assistance during this effort.

List of Subjects in 43 CFR Part 3140

Government contracts, Hydrocarbons, Mineral royalties, Oil and gas exploration, Public lands—mineral resources, Reporting and recordkeeping requirements.

Dated: April 19, 2006.
Chad Calvert,
Assistant Secretary, Land and Minerals Management.

Accordingly, BLM amend 43 CFR part 3140 as set forth below:

PART 3140—LEASING IN SPECIAL TAR SAND AREAS

1. The authority citation for part 3140 continues to read as follows:

Authority: 30 U.S.C. 181 et seq.; 30 U.S.C. 351-359; 95 Stat. 1070; 43 U.S.C. 1701 et seq.; the Energy Policy Act of 2005 (Pub. L. 109-58), unless otherwise noted.

Subpart 3141—Leasing in Special Tar Sand Areas

2. Amend § 3141.0-5 by removing the second paragraph (d) and revising paragraph (b) to read as follows:

§ 3141.0-5 Definitions.

* * * * *

(b) For purposes of this subpart, “oil and gas lease” means a lease issued in a Special Tar Sand Area for the exploration and development of oil and gas resources other than tar sand.

* * * * *

3. Revise § 3141.6-2(b) to read as follows:

§ 3141.6-2 Publication of a notice of competitive lease offering.

* * * * *

(b) Tar Sand Leases or Oil and Gas Leases. At least 45 days prior to conducting a competitive auction, lands to be offered for a competitive lease sale shall be posted in the proper BLM office having jurisdiction over the lands as specified in § 1821.10 of this chapter, and shall be made available for posting to surface managing agencies having jurisdiction over any of the included lands.

[FR Doc. 06-4625 Filed 5-17-06; 8:45 am]

BILLING CODE 4310-84-P